DEPARTMENT OF ENERGY

Federal Energy Regulatory Commission

[Project No. 12721-006]

Pepperell Hydro Company, LLC; Notice of Application Tendered for Filing With the Commission and Soliciting Additional Study Requests

Take notice that the following hydroelectric application has been filed with the Commission and is available for public inspection.

a. Type of Application: Original Major License.

b. Project No.: P-12721-006.

c. Date filed: October 9, 2013.

d. Applicant: Pepperell Hydro Company, LLC.

e. Name of Project: Pepperell Hydroelectric Project.

f. Location: On the Nashua River, in the town of Pepperell, Middlesex County, Massachusetts. The project would not occupy lands of the United States.

g. Filed Pursuant to: Federal Power Act 16 U.S.C. 791(a)—825(r).

h. Applicant Contact: Dr. Peter B. Clark, 823 Bay Road, P.O. Box 149, Hamilton, MA 01936; (978) 468-3999; or pclark@swiftrivercompany.com.

i. FERC Contact: Brandon Cherry at (202) 502-8328 or brandon.cherry@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: December 9, 2013.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC. 20426. The first page of any filing should include docket number P-12721-006.

m. The application is not ready for environmental analysis at this time.

n. The existing, unlicensed Pepperell Hydroelectric Project consists of: (1) The 23.5-foot-high, 251-foot-long concrete gravity ogee Pepperell Paper dam that includes a 244-foot-long spillway with a crest elevation of 197.0 feet North American Vertical Datum 1988 (NAVD88) and 3-foot-high wooden flashboards; (2) a 3.5-mile-long, 294-acre impoundment with a normal water surface elevation of 200.0 feet NAVD88; (3) a 25-foot-long, 26-foot-wide intake structure with two 7.75-foot-wide, 14.0-foot-high leaf intake gates; (4) a 12-foot-diameter, 565.5-foot-long penstock; (5) a 14.0 to 58.0-foot-wide, 25.5-foot-long forebay structure that includes a 1.5-foot-diameter gate with low level drain pipe and a 4.25-foot-wide, 3.5-foot-high trash sluice gate; (6) six 8-foot-wide, 10-foot-high turbine bay headgates with 17.33-foot-high trashracks with 1.75-inch clear bar spacing; (7) a 62-foot-wide, 41-foot-long powerhouse containing three 640-kilowatt (kW) turbine-generating units for a total installed capacity 1,920 kW; (8) three 11.5-foot-long turbine draft tubes; (9) three 265-foot-long, 600-volt transmission lines; and (10) appurtenant facilities.

The existing project also includes a downstream fish passage facility that consists of: (1) A 3-foot-wide, 23-foot-long concrete intake with a 4-foot-wide, 8-foot-high entrance gate; (2) a collection channel with a 2-foot-high, 2-foot-wide overflow stoplog notch; and (3) a 5-foot-deep plunge pool.

The existing project bypasses approximately 700 feet of the Nashua River.

Pepperell Hydro Company, LLC proposes to increase the capacities of two turbine-generating units to 764 kW and 735 kW and install a new 67.5-kW low flow turbine-generating unit at the dam for a total installed capacity of 2,206.5 kW. Pepperell Hydro Company, LLC proposes to operate the project in a run-of-river mode and release: (1) 46 cubic feet per second (cfs) or inflow to the bypassed reach from April 1 through November 30, which would include 17 cfs or inflow through the existing downstream fish passage facility from June 15 through October 30; and (2) 15 cfs or inflow to the bypassed reach from December 1 through March 31. The project would have an estimated average annual generation of 7,997 megawatt-hours.

o. A copy of the application is available for review at the Commission in the Public Reference Room or may be viewed on the Commission's Web site at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

p. With this notice, we are initiating consultation with the Massachusetts Historical Commission, as required by section 106 of the National Historic Preservation Act and the regulations of the Advisory Council on Historic Preservation, 36 CFR 800.4.

q. Procedural schedule: The application will be processed according to the following preliminary Hydro Licensing Schedule. Revisions to the schedule will be made as appropriate.

Issue Deficiency Letter—December 2013

Issue Notice of Acceptance—February 2014

Issue Scoping Document—March 2014

Issue Notice of Ready for Environmental Analysis—May 2014

Issue Notice of the Availability of the EA—October 2014

Dated: October 23, 2013.
Kimberly D. Bose,
Secretary.

[FR Doc. 2013-25700 Filed 10-29-13; 8:45 am]

BILLING CODE 6717-01-P